DEPARTMENT OF ENERGY

Spectrum Policy Seminar for the Utility Sector

AGENCY: Department of Energy.

ACTION: Notice of public meeting.

SUMMARY: On October 5, 2010, after an extensive public notice and comment process, the Department of Energy (DOE) issued a report entitled, “Communications Requirements of Smart Grid Technologies. ” The complete text of the report, and of a second report addressing data access and privacy issues arising from the deployment of smart grid technologies, can be found at: http://www.gc.energy.gov/1592.htm.

One recommendation in the report was to provide more information to the utility sector on spectrum policy issues in light of the role wireless communications will surely play in the deployment of smart grid technologies. At this spectrum policy seminar, senior officials from the Federal Communications Commission and the Commerce Department's National Telecommunications and Information Administration will provide an overview designed for the utility sector of the current spectrum management process. They will also address some of the Federal programs currently available to ensure priority restoration and priority calling for utilities during times of emergency. All members of the public are invited to attend.

DATES: The Department will hold a public meeting on December 8, 2010, from 2 p.m. to 4:30 p.m. in Washington, DC.

ADDRESSES: The public meeting will be held at the U.S. Department of Energy, Forrestal Building, Room GH-019, 1000 Independence Avenue, SW., Washington, DC 20585-0121. Please pre-register to the extent possible by contacting Katharine Dickerson at 202-586-5281 or Katharine.Dickerson@hq.doe.gov. Additionally, please note that foreign nationals participating in the public meeting are subject to advance security screening procedures. If a foreign national wishes to participate in the public meeting, please inform DOE of this fact as soon as possible by contacting Katharine Dickerson so that the necessary procedures can be completed.

FOR FURTHER INFORMATION CONTACT: Lauren M. Van Wazer, Senior Advisor, Technology Law (202) 586-3421; broadband@hq.doe.gov.

For Media Inquires you may contact Jen Stutsman at 202-586-4940.

Issued in Washington, DC on November 12, 2010.
Scott Blake Harris,
General Counsel.

[FR Doc. 2010-29089 Filed 11-17-10; 8:45 am]

BILLING CODE 6450-01-P